DEPARTMENT OF THE INTERIOR

National Park Service

[NPS-AKR-DENA-14293; PPAKDENAP0, PDMPSAS12.YP0000]

Notice of Renewal of the Denali National Park and Preserve Aircraft Overflights Advisory Council

AGENCY: National Park Service, Interior.

ACTION: Notice of renewal.

SUMMARY: The Secretary of the Interior is giving notice of the renewal of the Denali National Park and Preserve Aircraft Overflights Advisory Council. The Council provides advice and recommendations on mitigation of impacts from aircraft overflights at Denali National Park and Preserve.

FOR FURTHER INFORMATION CONTACT: Miriam Valentine, Chief of Planning and Environmental Compliance, Denali Park and Preserve, 240 W. 5th Avenue, Anchorage, Alaska 99501, (907) 733-9102.

SUPPLEMENTARY INFORMATION: The Denali National Park and Preserve Aircraft Overflights Advisory Council has been established in accordance with the Denali National Park and Preserve's 2006 Backcountry Management Plan and EIS. The plan concluded that air travel is an important means of access for backcountry users, and that scenic air tours are an important means for other park visitors to access and enjoy Mount McKinley and adjoining scenic peaks and glaciers. However, the cumulative impact of these tours, plus the additional aircraft traffic, must be mitigated to protect park resource values and the quality of the visitor experience. The plan calls for an aircraft overflights advisory group that will develop voluntary measures for assuring the safety of passengers, pilots, and mountaineers, and for achieving standards that represent desired future resource conditions at Denali. The National Park Service needs the advice of this group to develop effective mitigation measures that will be acceptable to stakeholders. The Council is composed of individuals that represent a broad range of interests, including air taxi operators, commercial aviation, local landowners, the State of Alaska, the Federal Aviation Administration, climbers and other park users, and the environmental community.

Certification: I hereby certify that the renewal of the Denali National Park and Preserve Aircraft Overflights Advisory Council is necessary and in the public interest in connection with the performance of duties imposed on the Department of the Interior by the National Park Service Organic Act, 16 U.S.C. 1-4, and other statutes relating to the administration of the National Park System.

Dated: December 11, 2013.
Sally Jewell,
Secretary of the Interior.

[FR Doc. 2014-00081 Filed 1-7-14; 8:45 am]

BILLING CODE 4312-EF-P